DEPARTMENT OF TRANSPORTATION

Federal Aviation Administration

Proposed Revision to Advisory Circular (AC) 25.562-1A, Dynamic Evaluation of Seat Restraint Systems and Occupant Protection on Transport Airplanes

AGENCY: Federal Aviation Administration, DOT.

ACTION: Notice of proposed revision to advisory circular.

SUMMARY: The Federal Aviation Administration invites public comment on a proposed revision to Advisory Circular 25.561-1A, Dynamic Evaluation of Seat Restraint Systems and Occupant Protection on Transport Airplanes. The revision provides updated guidelines for demonstrating compliance with the airworthiness standards applicable to dynamic testing of seats.

DATES: Comments must be received on or before April 2, 2003.

ADDRESSES: You should send your comments on the proposed revision to the Federal Aviation Administration, Attention: Jeff Gardin, Airframe/Cabin Safety Branch, ANM-115, Transport Airplane Directorate, Aircraft Certification Service, 1601 Lind Ave. SW., Renton, WA 98055-4056. You may also submit comments electronically to: jeff.gardlin@faa.gov.

FOR FURTHER INFORMATION CONTACT: Jeff Gardlin at the above address, telephone (425) 227-2136, facsimile (425) 227-1149, or e-mail jeff.gardlin@faa.gov.

SUPPLEMENTARY INFORMATION:

How Do I Obtain a Copy of the Proposed Advisory Circular Revision?

You may obtain an electronic copy of the draft advisory circular identified in this notice at the following Internet address: http://www.airweb.faa.gov/DraftAC If you do not have access to the Internet, you may request a copy by contacting Jeff Gardlin at the address or phone number listed earlier in this announcement.

How Do I Submit Comments on the Draft Advisory Circular?

You are invited to comment on the proposed advisory material by submitting written comments, data, or views. You must identify the title of the AC and submit your comments in duplicate to the address specified above. We will consider all comments received on or before the closing date for comments before issuing the final advisory material.

Discussion

This revision to Advisory Circular 25.562-1A provides an improved procedure for selection of test articles, as well as criteria for determining whether analysis or testing is appropriate for substantiation.

Issued in Renton, Washington, on December 20, 2002.
Ali Bahrami,
Acting Manager, Transport Airplane Directorate, Aircraft Certification Service.

[FR Doc. 02-33132 Filed 12-31-02; 8:45 am]

BILLING CODE 4910-13-M